DEPARTMENT OF THE INTERIOR

Minerals Management Service

30 CFR Part 250

RIN 1010-AD10

Oil and Gas and Sulphur Operations in the Outer Continental Shelf (OCS)—Plans and Information—Protection of Marine Mammals and Threatened and Endangered Species

AGENCY: Minerals Management Service (MMS), Interior.

ACTION: Proposed rule; extension of comment period.

SUMMARY: MMS is extending to January 6, 2006, the comment period of the proposed rule titled, “Oil and Gas and Sulphur Operations in the Outer Continental Shelf (OCS)—Plans and Information—Protection of Marine Mammals and Threatened and Endangered Species” published on September 6, 2005 (70 FR 52953). The previous deadline for comments was November 7, 2005. This notice will extend the original 60-day comment period to 120 days. This extension is necessary because of damage caused in the New Orleans area by Hurricane Katrina and the Louisiana/Texas area by Hurricane Rita and subsequent flooding. The extension will provide additional time to the oil and gas industry for reviewing and preparing comments to the rule as it recovers from these disasters.

DATES: MMS will consider all comments received by January 6, 2006. MMS will begin reviewing comments then and may not fully consider comments received after January 6, 2006.

ADDRESSES: You may submit comments on the rulemaking by any of the following methods listed below. Please use the Regulation Identifier Number (RIN) 1010-AD10 in your message.

• Federal eRulemaking Portal: http://www.regulations.gov. Follow the instructions on the website for submitting comments.

• E-mail MMS at rules.comments@mms.gov. Use 1010-AD10 in the subject line.

• Fax: 703-787-1546. Identify with 1010-AD10.

• Mail or hand-carry comments to the Department of the Interior; Minerals Management Service; Attention: Rules Processing Team (RPT); 381 Elden Street, MS-4024; Herndon, Virginia 20170-4817. Please reference “Plans and Information—Protection of Marine Mammals and Threatened and Endangered Species—1010-AD10” in your comments.

You may also send comments on the information collection aspects of this rule directly to the Office of Management and Budget (OMB), Office of Information and Regulatory Affairs, OMB Attention: Desk Officer for the Department of the Interior (1010-10) via OMB e-mail: (OIRA_DOCKET@omb.eop.gov); or by fax (202) 395-6566; identify with 1010-AD10. Please also send a copy to MMS.

FOR FURTHER INFORMATION CONTACT: Kumkum Ray, Regulations and Standards Branch at (703) 787-1604.

SUPPLEMENTARY INFORMATION: Lessees and operators with operations in the Gulf of Mexico Region are engaged in the restoration of normal operations following Hurricanes Katrina and Rita. The extension of the comment period will allow them, and the public, additional time to review the proposed rule and to comment on it. Accordingly, the Department of the Interior is extending the comment period date by 60 days to end on January 6, 2006.

Dated: October 17, 2005.
Chad Calvert,
Acting Assistant Secretary—Land and Minerals Management.

[FR Doc. 05-21282 Filed 10-24-05; 8:45 am]

BILLING CODE 4310-MR-P